ENVIRONMENTAL PROTECTION AGENCY

[FRL-7640-4]

National Environmental Justice Advisory Council; Notification of Meeting and Public Comment/Open Meetings

Pursuant to the Federal Advisory Committee Act (FACA), Public Law 92-463, we now give notice that the National Environmental Justice Advisory Council (NEJAC), along with its various subcommittees, will meet on the dates and times described below. The NEJAC and the subcommittee meetings will take place at the Sheraton New Orleans Hotel, 500 Canal Street, New Orleans, Louisiana 70130. The meeting dates are as follows: April 13, 2004 through April 16, 2002. All times noted are Central Standard Time. All meetings are open to the public. Due to limited space, seating at the NEJAC meeting will be on a first-come basis. This is the sixth in a series of focused policy issue meetings for the NEJAC. Documents that are the subject of NEJAC reviews are normally available from the originating EPA office and are not available from the NEJAC. To help prepare for this specific focused policy issue meeting the following background information is provided:

Request and Policy Issue

The Charter for the NEJAC states that the advisory committee shall provide independent advice to the Administrator on areas that may include, among other things, “advice on EPA's progress, quality and adequacy in planning, developing and implementing environmental justice strategies, projects and programs” relating to environment justice. In order to provide such independent advice, the Agency requests that the NEJAC convene a focused, issue-oriented public meeting in New Orleans, Louisiana. The meeting shall be used to receive comments on, discuss, and analyze issues related to cumulative risks and impacts and environmental justice. The Agency, furthermore, requests that the NEJAC produce a comprehensive report on the differing views, interests, concerns, and perspectives expressed by the stakeholder participants on the focused policy issue, and provide advice and recommendations for the Agency's review and consideration. In order to fulfill this charge, the NEJAC is being asked to discuss and provide recommendations regarding the following broad public policy question:

In order to ensure environmental justice for all communities and tribes, what short- and long-term actions should the Agency take in proactively implementing the concepts contained in its Framework for Cumulative Risk Assessment?

Meeting

Registration for the NEJAC meeting will begin on Tuesday, April 13, 2004 at 7 a.m. The NEJAC will convene Tuesday, April 13, 2004 from 9 a.m. to 5 p.m. The NEJAC will reconvene on Wednesday, April 14, 2004 from 8:30 a.m. to 5 p.m. The meetings on Tuesday and Wednesday will be organized to create the best environment for a deliberative process. The meeting will be conducted in a roundtable fashion, except during the public comment sessions. One public comment sessions dedicated to the focused policy issue is scheduled for Tuesday, April 13, 2004 from 7 p.m. to 9 p.m. General environmental justice public comment issues will be heard on Wednesday, April 14, 2004, from 7 p.m. to 9 p.m.

Correspondence concerning the meeting should be sent to Ms. Victoria Robinson, NEJAC Program Manager, U.S. Environmental Protection Agency, at 1200 Pennsylvania Avenue, NW., (MC2201A), Washington, DC 20460, by telephone: (202) 564-6349, or by FAX at (202) 564-1624. Additional information about the meeting is available at the Internet Web site: http://www.epa.gov/compliance/environmentaljustice/nejac/next_meeting.html.

The following Subcommittees of the NEJAC will meet on Thursday, April 15, 2004 from 8:30 a.m. to 5:30 p.m.: Air and Water; Enforcement; Health and Research; Indigenous Peoples; International; and Waste and Facility Siting. The full NEJAC will reconvene Friday, April 16, 2004, from 8:30 a.m. to 5 p.m. to address all other business requiring Executive Council action. All times shown are local, Central Standard time. Any member of the public wishing additional information about the subcommittee meetings should contact the specific Designated Federal Official (DFO) at the telephone number listed below.

Subcommittee | Federal Official and Telephone Number
Air & Water | Mr. Wil Wilson—(202) 564-1954
| Ms. Alice Walker—(202) 564-0498
Enforcement | Ms. Vicki Simons—(202) 564-8626
Health & Research | Mr. Gary Carroll—(202) 566-0518
| Mr. Sam Williams—(202) 564-6782
Indigenous Peoples | Mr. Daniel Gogal—(202) 564-2576
International | Ms. Wendy Graham—(202) 564-6602
Waste/Facility Siting | Mr. Kent Benjamin—(202) 566-0185

Members of the public are encouraged to provide comments relevant to the focus issue being deliberated by the NEJAC. Members of the public who wish to participate in either public comment period are encouraged to pre-register by April 1, 2004. Individuals or groups making oral presentations during the public comment period will be limited to a total time of five minutes. Only one representative of a community, an organization, or a group will be allowed to speak. Any number of written comments can be submitted for the record. The suggested format for individuals making public comment should be as follows:

Request To Make Public Comment

Speaker's Template

Name of Speaker:

Name of Organization/Community:

Address/Phone/FAX/E-Mail:

Description of Concern:

Relationship to the Policy Issue:

Recommendations/desired Outcome:

If you wish to submit written comments of any length (at least 50 copies), they should also be received by Friday, April 2, 2004. Written comments received after that date will be provided to the Council as logistics allow. All information should be sent to the address or fax number cited below.

Registration

Pre-registration for all attendees is recommended. To register online, visit the Web site: http://NEJACregistration.org; or request a registration form by calling the toll-free Registration Hotline at (888) 335-4299. Correspondence concerning registration should be sent to Ms. Jen Grund of Tetra Tech EM Inc. at: 1881 Campus Commons, Suite 200, Reston, Virginia 20191, telephone: (703) 390-0603, or FAX: (703) 391-5876. Hearing-impaired individuals or non-English speaking attendees wishing to arrange for a sign language or foreign language interpreter, may make appropriate arrangements using these numbers also. In addition, NEJAC offers a toll-free Registration Hotline at (888) 335-4299 or send an e-mail to nejac@ttemi.com.

Dated: March 15, 2004.
Charles Lee,
Designated Federal Officer, National Environmental Justice Advisory Council.

[FR Doc. 04-6828 Filed 3-25-04; 8:45 am]

BILLING CODE 6560-50-P